DEPARTMENT OF VETERANS AFFAIRS

[OMB Control No. 2900-XXXX]

Agency Information Collection Activity Under OMB Review: The Veteran Employment Through Technology Education Courses (VET TEC) Pilot Program

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Comments must be submitted on or before July 10, 2019.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-XXXX” in any correspondence.

FOR FURTHER INFORMATION CONTACT: Danny S. Green, (202) 421-1354 or email Danny.Green2@va.gov.

SUPPLEMENTARY INFORMATION:

Authority: Public Law 115-48, section 116; 44 U.S.C. 3501-21.

Title: Veteran Employment Through Technology Education Courses (VET TEC) Employment Verification Form: (VA Form 22-10201).

OMB Control Number: 2900-XXXX.

Type of Review: New collection.

Abstract: VA Form 22-10201 will allow student veterans and SCOs to certify that a student veteran has obtained meaningful employment with the skills acquired during their training program funded by the VET TEC program. The form will exist solely online and will be accessible via the Vets.gov website.

An agency may not conduct or sponsor, and a person is not required to respond to a collection of information unless it displays a currently valid OMB control number. The Federal Register Notice with a 60-day comment period soliciting comments on this collection of information was published at 84 FR 12670, dated April 2, 2019 on page 12670.

Affected Public: Individuals or Households.

Estimated Annual Burden: 46,875 hours.

Estimated Average Burden per Respondent: 5 minutes.

Frequency of Response: One time.

Estimated Number of Respondents: 562,000.

By direction of the Secretary.
Danny S. Green,
VA Interim Clearance Officer, Office of Quality, Performance and Risk, Department of Veterans Affairs.

[FR Doc. 2019-12087 Filed 6-7-19; 8:45 am]

BILLING CODE 8320-01-P